DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of August 28, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Hamilton County, Florida and Incorporated Areas
Docket No.: FEMA-B-1623
Town of White Springs | Town Hall, 10363 Bridge Street, White Springs, FL 32096.
Unincorporated Areas of Hamilton County | Hamilton County Building Department, 204 Northeast 1st Street, Jasper, FL 32052.
Suwannee County, Florida and Incorporated Areas
Docket No.: FEMA-B-1623
Unincorporated Areas of Suwannee County | Suwannee County Planning and Zoning and Floodplain Management Department, 224 Pine Avenue Southwest, Live Oak, FL 32064.
Brunswick County, North Carolina and Incorporated Areas
Docket No.: FEMA-B-1523, FEMA-B-1541 and FEMA-B-1616
City of Boiling Spring Lakes | City Hall, 9 East Boiling Spring Road, Boiling Spring Lakes, NC 28461.
City of Northwest | Northwest City Hall, 4889 Vernon Road, Leland, NC 28451.
City of Southport | City Hall, 1029 North Howe Street, Southport, NC 28461.
Town of Belville | Town Hall, 497 Olde Waterford Way, Suite 205, Belville, NC 28451.
Town of Calabash | Town Hall, 882 Persimmon Road, Calabash, NC 28467.
Town of Carolina Shores | Town Hall, 200 Persimmon Road, Carolina Shores, NC 28467.
Town of Caswell Beach | Town Hall, 1100 Caswell Beach Road, Caswell Beach, NC 28465.
Town of Holden Beach | Town Hall, 110 Rothschild Street, Holden Beach, NC 28462.
Town of Leland | Town Hall, 102 Town Hall Drive, Leland, NC 28451.
Town of Navassa | Town Hall, 334 Main Street, Navassa, NC 28451.
Town of Oak Island | Town Hall, 4601 East Oak Island Drive, Oak Island, NC 28465.
Town of Ocean Isle Beach | Town Hall, 3 West Third Street, Ocean Isle Beach, NC 28469.
Town of Shallotte | Town Hall, 106 Cheers Street, Shallotte, NC 28470.
Town of St. James | St. James Town Hall, 4140A Southport-Supply Road, Southport, NC 28461.
Town of Sunset Beach | Town Hall, 700 Sunset Boulevard North, Sunset Beach, NC 28468.
Town of Varnamtown | Varnamtown Town Hall, 100 Varnamtown Road, Supply, NC 28462.
Village of Bald Head Island | Village Hall, 106 Lighthouse Wynd, Bald Head Island, NC 28461.
Unincorporated Areas of Brunswick County | Brunswick County Government Complex, 30 Government Center Drive, Bolivia, NC 28422.
New Hanover County, North Carolina and Incorporated Areas
Docket No.: FEMA-B-1523
City of Wilmington | Planning, Development, and Transportation Department, Planning Division, 305 Chestnut Street, Wilmington, NC 28401.
Town of Carolina Beach | Town Hall, Planning Department, 1121 North Lake Park Boulevard, Carolina Beach, NC 28428.
Town of Kure Beach | Town Hall, Building Inspections, 117 Settlers Lane, Kure Beach, NC 28449.
Town of Wrightsville Beach | Town Hall, Planning and Parks Department, 321 Causeway Drive, Wrightsville Beach, NC 28480.
Unincorporated Areas of New Hanover County | New Hanover County Development Services Office, 230 Government Center Drive, Suite 110, Wilmington, NC 28403.
Brown County, Texas and Incorporated Areas
Docket No.: FEMA-B-1412 and FEMA-B-1709
City of Bangs | City Hall, 109 South 1st Street, Bangs, TX 76823.
City of Blanket | City Hall, 719 Main Street, Blanket, TX 76432.
City of Brownwood | Engineering Office, 501 Center Avenue, Brownwood, TX 76801.
City of Early | City Hall, 960 Early Boulevard, Early, TX 76802.
Unincorporated Areas of Brown County | Brown County Building Inspector's Office, 200 South Broadway Street, Suite 322, Brownwood, TX 76801.

[FR Doc. 2018-13608 Filed 6-25-18; 8:45 am]

BILLING CODE 9110-12-P